DEPARTMENT OF EDUCATION

American Indian and Alaska Native Education Research Grant Program

AGENCY: Office of Educational Research and Improvement, Department of Education.

ACTION: Notice of proposed priority.

SUMMARY: The Secretary proposes a priority for an American Indian and Alaska Native Education Research Grant Program to fund research that will evaluate the role of Native language and culture in the development of educational strategies for improving achievement and academic progress of American Indian and Alaska Native students. The Secretary may use this priority for competitions in fiscal year (FY) 2001 and in later fiscal years.

DATES: We must receive your comments on or before May 21, 2001.

ADDRESSES: Address all comments about this proposed priority to Karen Suagee, U.S. Department of Education, 555 New Jersey Avenue, NW., room 610B, Washington, DC 20208-5521. If you prefer to send your comments through the Internet, use the following address: comments@ed.gov.

You must include the term Indian Education Research in the subject line of your electronic message.

FOR FURTHER INFORMATION CONTACT: Karen Suagee. Telephone: (202) 219-2244 or via Internet: karen_suagee@ed.gov

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding this proposed priority. We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this proposed priority in room 610B, 555 New Jersey Avenue, NW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, you may call (202) 205-8113 or (202) 260-9895. If you use a TDD, you may call the Federal Information Relay Service (FIRS) at 1-800-877-8339.

Background

The Office of Educational Research and Improvement (OERI) and the Office of Indian Education (OIE), within the Office of Elementary and Secondary Education (OESE), support educational research and development activities that improve the educational achievement and academic progress of American Indian and Alaska Native students. Under section 9141 of the Elementary and Secondary Education Act (the national research program's authorities), the Department is authorized to fund research, evaluation, and data collection to provide information on the status of education for the Indian population and on the effectiveness of Indian Education Programs. Section 9141 further provides that the research activities funded under this authority shall be carried out in consultation with OERI.

Pursuant to this authority and in response to Executive Order 13096, entitled “American Indian and Alaska Native Education”, OIE and OERI are collaborating to conduct their first grant competition. Moreover, pursuant to a Memorandum of Understanding between OESE and OERI, OERI will conduct and administer the competition.

The Executive Order requires the Department to develop and implement a comprehensive research agenda designed to improve the academic achievement and school retention of American Indian and Alaska Native students. The research agenda is to address three goals: (1) To establish baseline data on academic achievement and retention of American Indian and Alaska Native students in order to monitor improvements; (2) to evaluate promising practices used with those students; and (3) to evaluate the role of native language and culture in the development of educational strategies. Work on the research agenda is in progress. When the agenda is completed, the Secretary may establish additional priorities for grant competitions under this authority in FY 2002 and later years. During the interim period, the Secretary is proposing an absolute priority to address one of the agenda goals: evaluating the role of language and culture in developing educational strategies.

Prior to this announcement and in conjunction with planning for the development of a research agenda for American Indian and Alaska Native education, OIE and OERI engaged in a series of meetings and regional hearings to solicit advice from parents, teachers, administrators, tribal leaders, and researchers to identify high-priority research concerns. OIE and OERI considered these concerns in preparing this notice of proposed priority.

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we will invite applications through a notice in the Federal Register.

Proposed Priority—Evaluating the Role of Language and Culture in Developing Educational Strategies

Background: Recent research points to the degree of fit, or congruence, between the cultural contexts of home and school as a factor influencing academic and social development outcomes of students. These outcomes include, but are not limited to, academic achievement, reduced dropout rate, school engagement, responsible behavior (taking into account tribal values), attendance, and high school completion. The research suggests that achieving positive academic and social outcomes for students from diverse linguistic and cultural backgrounds may be enhanced by incorporating native language and culture in the development of educational strategies.

Family and community involvement in education is also vital to the academic and social development of students. For schools serving students from diverse linguistic and cultural backgrounds, the research also suggests that strong family and community collaboration with schools that reflects the language and culture of the community may support the efforts of schools to enhance student achievement and social development. The Secretary wishes to determine the extent to which, and the ways in which, incorporating native language and culture in educational strategies (including strong family and community collaboration with schools), contributes to the attainment of these positive academic and social outcomes for American Indian and Alaska Native students.

Absolute Priority: Under 34 CFR 75.105(c)(3), the Secretary proposes to give an absolute preference to applications that meet the priority in the next paragraph. Funding this priority will depend on the availability of funds, the nature of the final priority, and the quality of applications received. There will be only one grant competition addressing this priority. Therefore, each applicant will compete against all applicants under this competition.

The Secretary proposes to fund only applicants that propose to expand the current research base for pre-kindergarten through secondary level education of American Indian and Alaska Native students, in both rural and urban settings, by addressing the following research question:

To what extent and in what ways does incorporating native language and culture in educational strategies affect either academic achievement or social development of American Indian and Alaska Native students, or both? In addressing this question applicants must take into account other factors that may affect these outcomes, such as curriculum and instruction, standards and assessment, school and classroom settings, teacher professional development, and family and community collaboration with schools.

The research proposed in the application should—

a. Incorporate a well-conceptualized and theoretically sound framework;

b. Incorporate a rigorous design that is capable of generating findings that contribute substantially to understanding in the field;

c. Link previous research, theory, and findings to the proposed study;

d. Conduct work of sufficient size, scope, and duration to produce generalizable results;

e. Contribute to the advancement of knowledge; and

f. Provide for a dissemination plan that will facilitate effective use of the research by educators, community members, policy makers, and other interested parties.

Preference for Indian Organizations

Eligible entities for the national research program authorized under section 9141 of the Elementary and Secondary Education Act (20 U.S.C. 7861) are Indian Tribes, Indian organizations, State educational agencies, local educational agencies, institutions of higher education, including Indian institutions of higher education, and other public and private agencies and institutions. We want to advise the public that the statute requires the Secretary to give a preference to Indian Tribes, Indian organizations, and Indian institutions of higher education in awarding research grants authorized under section 9141. (Section 9153; 20 U.S.C. 7873.)

The Secretary will award 5 extra points to applications submitted by the entities entitled to the statutory preference. We are not taking public comment on the manner in which the Secretary is carrying out the preference; rather, we want to give the public as much advance notice as possible as to the eligible parties and the existence of this preference. In addition, we want to advise the public that a consortium application of eligible entities that includes an Indian Tribe, Indian organization or Indian institution of higher education would be considered eligible to receive the extra 5 points.

Electronic Access to This Document

You may view this document, as well as all other Department of Education documents published in the Federal Register, in text or Adobe Portable Document Format (PDF) on the Internet at:

www.ed.gov/legislation/FedRegister

To use PDF, you must have Adobe Acrobat Reader, which is available free at this site. If you have questions about using PDF, call the U.S. Government Printing Office (GPO), toll free, at (888) 293-6498; or in the Washington, DC area at (202) 512-1530.

Note: The official version of this document is the document published in the Federal Register. Free Internet access to the official edition of the Federal Register and the Code of Federal Regulations is available on GPO Access at:

http://www.access.gpo.gov/nara/index.html

Program Authority: 20 U.S.C. 7861 and 7873 and section 931 of the Educational Research, Development, Dissemination, and Improvement Act of 1994 (20 U.S.C. 6031.)

(Catalog of Federal Domestic Assistance Number: 84.306N American Indian and Alaska Native Education Research Grant Program)
Dated: April 16, 2001.
Sue Betka,
Deputy Assistant Secretary, Office of Educational Research and Improvement.

[FR Doc. 01-9738 Filed 4-18-01; 8:45 am]

BILLING CODE 4000-01-P